DEPARTMENT OF ENERGY

Federal Energy Regulatory Commission

Combined Notice of Filings #1

Take notice that the Commission received the following electric corporate filings:

Docket Numbers: EC18-83-000.

Applicants: GenOn Holdco 10, LLC, NRG Canal LLC, Stonepeak Kestrel Holdings LLC.

Description: Joint Application under FPA Section 203 of GenOn Holdco 10, LLC, et. al.

Filed Date: 4/12/18.

Accession Number: 20180412-5227.

Comments Due: 5 p.m. ET 5/3/18.

Take notice that the Commission received the following electric rate filings:

Docket Numbers: ER18-865-001.

Applicants: Power 52 Inc.

Description: Tariff Amendment: Power52 Market Based Rate Tariff to be effective 4/17/2018.

Filed Date: 4/12/18.

Accession Number: 20180412-5224.

Comments Due: 5 p.m. ET 5/3/18.

Docket Numbers: ER18-1357-000.

Applicants: Midcontinent Independent System Operator, Inc., Michigan Electric Transmission Company.

Description: § 205(d) Rate Filing: 2018-04-12 SA 3026 METC—City of Holland 1st Rev SIFA to be effective 5/12/2018.

Filed Date: 4/12/18.

Accession Number: 20180412-5215.

Comments Due: 5 p.m. ET 5/3/18.

Docket Numbers: ER18-1358-000.

Applicants: Avangrid Renewables, LLC.

Description: Tariff Cancellation: Notice of Termination of Wind Balancing Services Tariff to be effective 6/1/2018.

Filed Date: 4/12/18.

Accession Number: 20180412-5225.

Comments Due: 5 p.m. ET 5/3/18.

Docket Numbers: ER18-1359-000.

Applicants: Pacific Gas and Electric Company.

Description: § 205(d) Rate Filing: Amendment to Power and Water Resources Pooling Authority IA and WDT SA (SA 30) to be effective 5/1/2018.

Filed Date: 4/13/18.

Accession Number: 20180413-5000.

Comments Due: 5 p.m. ET 5/4/18.

Docket Numbers: ER18-1360-000.

Applicants: San Diego Gas & Electric Company.

Description: Request for One Time Waiver of San Diego Gas & Electric Company.

Filed Date: 4/12/18.

Accession Number: 20180412-5226.

Comments Due: 5 p.m. ET 5/3/18.

Docket Numbers: ER18-1361-000.

Applicants: Arbuckle Mountain Wind Farm LLC.

Description: § 205(d) Rate Filing: Revised MBR Tariff to be effective 4/14/2018.

Filed Date: 4/13/18.

Accession Number: 20180413-5084.

Comments Due: 5 p.m. ET 5/4/18.

Docket Numbers: ER18-1362-000.

Applicants: Arlington Wind Power Project LLC.

Description: § 205(d) Rate Filing: Revised MBR Tariff to be effective 4/14/2018.

Filed Date: 4/13/18.

Accession Number: 20180413-5085.

Comments Due: 5 p.m. ET 5/4/18.

Take notice that the Commission received the following electric securities filings:

Docket Numbers: ES18-28-000.

Applicants: DTE Electric Company.

Description: Application of DTE Electric Company for Authorization to Issue Securities and Request for Exemption from Competitive Bidding Requirements.

Filed Date: 4/13/18.

Accession Number: 20180413-5109.

Comments Due: 5 p.m. ET 5/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2018.
Nathaniel J. Davis, Sr.,
Deputy Secretary.

[FR Doc. 2018-08168 Filed 4-18-18; 8:45 am]

BILLING CODE 6717-01-P